NUCLEAR REGULATORY COMMISSION

Sunshine Federal Register Notice

Agency Holding the Meetings: Nuclear Regulatory Commission.

Dates: Weeks January 2, 9, 16, 23, 30, February 6, 2006.

Place: Commissioners' Conference Room, 11555 Rockville Pike, Rockville, Maryland.

Status: Public and Closed

Matters to be considered:

Week of January 2, 2006

There are no meetings scheduled for the Week of January 2, 2006.

Week of January 9, 2006

Tuesday, January 10, 2006

9:30 a.m. Briefing on International Research and Bilateral Agreements (Public Meeting). (Contact: Roman Shaffer, 301-415-7605).

This meeting will be webcast live at the Web address— http://www.nrc.gov.

Wednesday, January 11, 2006

1:55 p.m Affirmation Session (Public Meeting) (Tentative). a. Hydro Resources, Inc. (Crownpoint, New Mexico) Petition for Review of LBP-05-17 (Groundwater Issues) (Tentative).

2 p.m. Meeting with Advisory Committee on Nuclear Waste (ACNW) (Public Meeting) (Contact: John Larkins, 301-415-7360).

This meeting will be webcast live at the Web address— http://www.nrc.gov.

Thursday, January 12 2006

9:30 a.m. Discussion of Security Issues (Closed—Ex. 2 & 3).

Week of January 16, 2006—Tentative

Tuesday, January 17, 2006

1:30 p.m. Discussion of Security Issues (Closed—Ex. 1 & 3).

Week of January 23, 2006—Tentative

There are no meetings scheduled for the Week of January 23, 2006.

Week of January 30, 2006—Tentative

Tuesday, January 31, 2006

9:30 a.m. Briefing on Strategic Workforce Planning and Human Capital Initiatives (Closed—Ex. 2).

Wednesday, February 1, 2006

9:30 a.m. Discussion of Security Issues (Closed—Ex. 1 & 3).

Week of February 6, 2006—Tentative

Monday, February 6, 2006

9:30 a.m. Briefing on Materials Degradation Issues and Fuel Reliability (Public Meeting). (Contact: Jennifer Uhle, 301-415-6200).

This meeting will be webcast live at the Web address— http://www.nrc.gov.

Wednesday, February 8, 2006

9:30 a.m. Briefing on Office of Nuclear Materials Safety and Safeguards (NMSS). Programs, Performance, and Plans—Materials Safety (Public Meeting). (Contact: Teresa Mixon, 301-415-7474).

This meeting will be webcast live at the Web address— http://www.nrc.gov.

1:30 p.m. Briefing on Office of Research (RES) Programs, Performance and Plans (Public Meeting) (Contact: Gene Carpenter, 301-415-7333).

This meeting will be webcast live at the Web address— http://www.nrc.gov.

*The schedule for Commission meetings is subject to change on short notice. To verify the status of meetings call (recording)—(301) 415-1292. Contact person for more information: Michelle Schroll, (301) 415-1662.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g. Braille, large print), please notify the NRC's Disability Program Coordinator, August Spector, at 301-415-7080, TDD: 301-415-2100, or by e-mail at aks@nrc.gov. Determinations on requests for reasonable accommodation will be made on a case-by-case basis.

* * * * *

This notice is distribute by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: December 29, 2005.
R. Michelle Schroll,
Office of the Secretary.

[FR Doc. 05-24704 Filed 12-30-05; 12:42 pm]

BILLING CODE 7590-01-M